DEPARTMENT OF COMMERCE

National Oceanic and Atmospheric Administration

RIN 0648-XS41

Marine Mammals; File No. 87-1851-02

AGENCY: National Marine Fisheries Service (NMFS), National Oceanic and Atmospheric Administration (NOAA), Commerce.

ACTION: Notice; receipt of application for permit amendment.

SUMMARY: Notice is hereby given that Daniel P. Costa, Ph.D., University of California at Santa Cruz, Long Marine Laboratory, 100 Shaffer Road, Santa Cruz, CA, has applied for an amendment to Scientific Research Permit No. 87-1851-01.

DATES: Written, telefaxed, or e-mail comments must be received on or before November 19, 2009.

ADDRESSES: The application and related documents are available for review by selecting “Records Open for Public Comment” from the Features box on the Applications and Permits for Protected Species home page, https://apps.nmfs.noaa.gov, and then selecting File No. 87-1851 from the list of available applications.

These documents are also available upon written request or by appointment in the following office(s):

Permits, Conservation and Education Division, Office of Protected Resources, NMFS, 1315 East-West Highway, Room 13705, Silver Spring, MD 20910; phone (301)713-2289; fax (301)713-0376; and

Southwest Region, NMFS, 501 West Ocean Blvd., Suite 4200, Long Beach, CA 90802-4213; phone (562)980-4001; fax (562)980-4018.

Written comments on this application should be submitted to the Chief, Permits, Conservation and Education Division, at the address listed above. Comments may also be submitted by facsimile to (301)713-0376, or by email to NMFS.Pr1Comments@noaa.gov. Please include the File No. in the subject line of the email comment.

Those individuals requesting a public hearing should submit a written request to the Chief, Permits, Conservation and Education Division at the address listed above. The request should set forth the specific reasons why a hearing on this application would be appropriate.

FOR FURTHER INFORMATION CONTACT: Amy Sloan or Tammy Adams, (301)713-2289.

SUPPLEMENTARY INFORMATION: The subject amendment to Permit No. 87-1851-01 is requested under the authority of the Marine Mammal Protection Act of 1972, as amended (16 U.S.C. 1361 et seq.) and the regulations governing the taking and importing of marine mammals (50 CFR part 216).

Permit No. 87-1851-00, issued to Dr. Costa on January 29, 2007 (72 FR 5680), authorizes tagging studies and physiological research on seals in Antarctica, including crabeater seals (Hydrurga leptonyx), Weddell seals (Leptonychotes weddellii), and Ross seals (Ommatophoca rossii). The permit also authorizes research on California sea lions (Zalophus californianus) to investigate foraging, diving, energetics, food habits, and at-sea distribution along the California coast. Incidental harassment of California sea lions, harbor seals (Phoca vitulina), northern elephant seals (Mirounga augustirostris), and northern fur seals (Callorhinus ursinus) in California is authorized. The permit expires on January 31, 2012. Permit No. 87-1851-01, issued on January 13, 2009 (74 FR 4374), authorizes the permit holder to expand the geographic area where research is conducted in Antarctica to include the Weddell Sea, for the duration of the permit.

The permit holder is requesting the permit be amended to include authorization for expanding the geographic range where research is conducted in Antarctica to include the Ross Sea and to increase the number of Weddell seals captured, sedated, tagged, and sampled from 10 animals per year to 40 animals per year.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: October 14, 2009.
Tammy C. Adams,
Acting Chief, Permits, Conservation and Education Division, Office of Protected Resources, National Marine Fisheries Service.

[FR Doc. E9-25212 Filed 10-19-09; 8:45 am]

BILLING CODE 3510-22-S